DEPARTMENT OF COMMERCE

National Oceanic and Atmospheric Administration

Notice of Matching Fund Opportunity for Hydrographic Surveys and Request for Partnership Proposals

AGENCY: National Oceanic and Atmospheric Administration (NOAA), Department of Commerce.

ACTION: Announcement of matching fund pilot program opportunity, request for proposals, and request for interest by February 26, 2021.

SUMMARY: This notice establishes selection criteria and requirements for the NOAA National Ocean Service Office of Coast Survey's (Coast Survey) Hydrographic Surveying Matching Fund opportunity pilot program (pilot program). The purpose of this notice is to encourage non-Federal entities to partner with NOAA on jointly funded hydrographic surveying and mapping and related activities of mutual interest. NOAA would match partner funds and rely on its existing contract arrangements to conduct the actual surveying and mapping activities. NOAA is requesting that interested entities submit proposals by February 26, 2021. The goal of the pilot program is to acquire more ocean and coastal hydrographic surveying for mutual benefit, including for safe navigation, integrated ocean and coastal mapping, coastal zone management, coastal and ocean science, and other activities. The program relies on NOAA's hydrographic expertise, appropriated funds, and its authority to receive and expend matching funds contributed by partners to conduct surveying and mapping activities. This pilot program is subject to funding availability.

DATES: Proposals must be received via email by 5 p.m. EST on February 26, 2021 with any accompanying GIS files due no later than March 5, 2021. If an entity is unable to apply for this particular opportunity but has an interest in participating in similar, future opportunities, NOAA requests a one-page statement of interest by February 26, 2021, to help gauge whether to offer this matching fund program in future years.

ADDRESSES: Proposals must be submitted in PDF format via email to iwgocm.staff@noaa.gov by the February 26, 2021, deadline. Coast Survey strongly encourages interested entities to submit their proposals in advance of the deadline.

FOR FURTHER INFORMATION CONTACT: Requests for additional information should be directed to Ashley Chappell, NOAA Integrated Ocean and Coastal Mapping Coordinator, 240-429-0293, or ashley.chappell@noaa.gov.

SUPPLEMENTARY INFORMATION:

I. Background

Coast Survey is responsible for conducting hydrographic and seafloor surveys for safe navigation, the conservation and management of coastal and ocean resources, and emergency response. Coast Survey is committed to meeting these missions as collaboratively as possible, adhering to the Integrated Ocean and Coastal Mapping (IOCM) principle of “Map Once, Use Many Times.”

After the June 2020 publications of the National Strategy for Mapping, Exploring (NOMEC), and Characterizing the U.S. Exclusive Economic Zone and the Alaska Coastal Mapping Strategy (ACMS), Coast Survey released a responsive Ocean Mapping Plan with a goal to map the full extent of waters subject to U.S. jurisdiction to modern standards (all three plans are available at https://iocm.noaa.gov/about/strategic-plans.html. The Coast Survey Ocean Mapping Plan describes a number of motivating forces for surveying and mapping waters subject to U.S. jurisdiction, including, but not limited to:

• Safe marine transportation;

• Coastal community resilience;

• A need to better understand the influence of the ocean's composition on related physical and ecosystem processes that affect climate, weather, and coastal and marine resources and infrastructure;

• Interest in capitalizing on the Blue Economy in growth areas like seafood production, tourism and recreation, marine transportation, and ocean exploration;

• The national prerogative to exercise U.S. sovereign rights to explore, manage, and conserve natural resources in waters subject to U.S. jurisdiction; and

• International commitments to map the global oceans by 2030.

Ocean mapping data is needed for safe navigation and also informs decisions regarding emergency planning, climate adaptation and resilience, economic investment, infrastructure development, and habitat protection. Emerging sectors that require high-resolution seafloor surveys include deep sea mineral exploration, national security, and maritime domain awareness in the Arctic Ocean. Numerous other fields that rely on high-resolution ocean mapping data include fisheries management and sustainable use of natural resources, offshore renewable energy construction, and tsunami and hurricane modelling. Bathymetry is a critical factor in assessing and preparing for potential impacts of threats such as sea level rise, flooding, and storm surge to coastal communities. However, the resources needed to fully achieve the goal of comprehensively mapping U.S. oceans and coasts currently exceed Coast Survey's capacity. Mapping the full extent of waters subject to U.S. jurisdiction means relying on partners to contribute to the effort.

Coast Survey has considerable hydrographic expertise, including cutting edge understanding of the science and related acoustic systems. More detail on Coast Survey's surveying expertise and capabilities is available in the NOAA Coast Survey Ocean Mapping Capabilities report (https://nauticalcharts.noaa.gov/about/docs/about/ocean-mapping-capabilies.pdf). Coast Survey's hydrographic expertise is a resource available to NOAA partners, both federal and non-Federal.

Through this pilot program, Coast Survey will match funds contributed by non-Federal entities for hydrographic surveys. Coast Survey hydrographic survey services include single beam and multibeam echo sounding, side scan sonar, lidar, and backscatter acquisition by means of air and surface vehicles, autonomous underwater vehicles, and uncrewed surface vehicles.

II. Description

This notice announces a pilot program to assess whether there is sufficient stakeholder interest in matching funds with Coast Survey to partner on ocean and coastal hydrographic surveys. Proposals will be evaluated and prioritized for funding based on submitted justifications. Coast Survey will select proposals using the review process and criteria evaluation described in section IX of this notice. If there is sufficient interest in the pilot program, Coast Survey plans to increase its allocation for matching funds in future years, as appropriations allow.

The goal of this pilot program is to leverage NOAA and partner funds to acquire more coastal and ocean mapping data to a consistent standard for projects during FY2022. If appropriated funds are available, NOAA will match funds contributed by selected entities for hydrographic surveys. Coast Survey will receive the contributions through memoranda of agreement using the authority granted to NOAA under the Coast and Geodetic Survey Act of 1947 to receive and expend funds for collaborative hydrographic surveys (33 U.S.C. 883e).

Coast Survey will manage survey planning, quality-assure all data and products, provide the data and products to the partners, and handle data submission to the National Centers for Environmental Information (NCEI) for archiving and accessibility. All hydrographic data and related products resulting from this pilot program will be available to the public. The value-added services Coast Survey will provide include:

• Project management and GIS-based task order planning, negotiation and award of necessary procurement contracts:

○ Tailored to meet the interests of matching fund partners

○ Managed on aerial, shipboard, and uncrewed/autonomous vehicles

• Data acquisition collection methods include, but are not limited to:

○ Multibeam Echosounder

○ Side Scan Sonar

○ Lidar (topographic, bathymetric, mobile)

○ Subsurface and airborne feature investigations

○ Sediment sampling

• Managing survey compliance with applicable laws Products acquired may include, but not be limited to:

• Bathymetric data (multibeam, single beam, lidar)

• Backscatter

• Water column (depth dependent)

• Side scan sonar imagery

• Feature detection reports

• Sensor/data corrections and calibrations (e.g., conductivity, temperature and depth (CTD) casts, horizontal/vertical position uncertainty)

• Survey and control services, including the installation, operation, and removal of water level and Global Positioning System (GPS) stations

• Data processing, quality assessment and review of all acquired hydrographic data

• Data management and stewardship through data archive at NCEI

• High-resolution topographic/bathymetric product generation

More information on Coast Survey's Hydrographic Surveys Specifications and Deliverables publication can be found at https://nauticalcharts.noaa.gov/publications/docs/standards-and-requirements/specs/hssd-2020.pdf. This publication details the requirements for NOAA hydrographic surveys. These specifications are based in part on the International Hydrographic Organization's Standards for Hydrographic Surveys, Special Publication 44 (https://iho.int/uploads/user/pubs/Drafts/S-44_Edition_6.0.0-Final.pdf).

Coast Survey would also like to gauge interest in this matching fund pilot program by eligible, non-Federal entities that do not plan to apply this year but that would consider applying in future years. Coast Survey welcomes eligible entities to submit a one-page statement of interest by February 26, 2021, that Coast Survey will consider in deciding whether to offer this matching fund program in future years.

III. Areas of Focus

For this opportunity, proposals will be considered that are well aligned with the goals of the NOMEC, ACMS, and the Coast Survey Ocean Mapping Plan (all available at https://iocm.noaa.gov/about/strategic-plans.html). Those goals include:

A. Map the United States Exclusive Economic Zone (EEZ): The goal is to coordinate mapping efforts to compile a complete map of deep water by 2030 and nearshore waters by 2040. Completing this goal will give the United States unprecedented and detailed information about the depth, shape, and composition of the seafloor of the United States EEZ (NOMEC Goal 2).

B. Expand Alaska Coastal Data Collection to Deliver the Priority Geospatial Products Stakeholders Require: Mapping the Alaska coast is challenging. However, using targeted and coordinated data collections will potentially reduce overall costs and improve the cost-to-benefit ratio of expanded mapping activities. (ACMS Goal 2)

C. Map the full extent of waters subject to U.S. jurisdiction to modern standards: Based on analysis of data holdings at the NOAA NCEI, 54 percent of waters subject to U.S. jurisdiction are unmapped, covering an area of about two million square nautical miles (Coast Survey Ocean Mapping Plan).

IV. Proposal Eligibility

This matching fund opportunity is available to non-Federal entities. Examples of non-Federal entities include state and local governments, tribal entities, universities, researchers and academia, the private sector, non-governmental organizations (NGOs), and philanthropic partners. Qualifying proposals must demonstrate the ability to provide at least 50% matching funds, which would be transferred to NOAA by October 2021 using a memorandum of agreement. A coalition of non-Federal entities may assemble matching funds and submit a proposal jointly. In-kind contributions are welcome to strengthen the proposal, but do not count toward the match and therefore are not required.

V. Deadlines and Process Dates

All submissions must be emailed to iwgocm.staff@noaa.gov. Partner proposals are due by 5:00 p.m. EST on February 26, 2021 (see Section VIII. for details). Please include all required components of the proposal in one email. Incomplete and late submissions will not be considered.

• Informational Webinar, January 28, 2021, 2 p.m. EST; register at https://attendee.gotowebinar.com/register/2034875377454911502.

• February 26, 2021: Due date for proposals

• February 26, 2021: Due date for statements of interest regarding potential future proposals

• March 5, 2021: Due date for additional GIS files supporting a proposal

• March 26, 2021: NOAA issues its decisions on proposals (subject to appropriations)

• April 2021: NOAA works with selected partners to develop memoranda of agreement to facilitate the transfer of funds from the non-Federal partner to NOAA

• August 2021: NOAA finalizes the memoranda of agreement with partners

• October 2021: Non-Federal partners transfer matching funds to NOAA

• October 2021-September 2022: NOAA issues task orders to its survey contractors for NOAA/partner projects

VI. Funding Availability

In the first year of this pilot program, Coast Survey anticipates funding between two to five survey projects at a 50% match of up to $1 million per project. All projects are expected to have a FY2022 project start date and all non-Federal partner matching funds must be received by NOAA in October 2021. Coast Survey reserves the right to increase or decrease the available amount of matching funds based on the quality and feasibility of proposals received. This notice is subject to the availability of appropriations.

VII. Project Period

NOAA intends to complete each selected project within two (2) years. However, the period to complete a project may be extended, with no additional funding, if additional time is needed. Coast Survey will submit a final report to the non-Federal partner within 60 days of the conclusion of each project.

VIII. Submission Requirements

Project Proposal—To qualify, a proposal shall not exceed six (6) total pages (plus GIS files of project areas) and must include the following three components:

1. A project title; executive summary (3-5 sentences); and the names, affiliations, and roles of the project partners and any co-investigators, as well as the project lead that will serve as primary contact (1 page maximum).

2. A justification and statement of need; description and graphics of the proposed survey area polygon(s) including relevance to the strategic areas of focus noted in Section III and degree of flexibility on timing of survey effort (4 pages maximum).

3. A project budget that lists the source(s) and amount(s) of funding that the partner would provide as its 50% contribution to NOAA. Budget must confirm that partner funds can be transferred to NOAA by October 31, 2021 (1 page maximum).

Proposals must use 12-point, Times New Roman font, single spacing, and 1-inch margins. Failure to adhere to these requirements will result in the proposal being returned without review and eliminated from further consideration. Coast Survey welcomes the submission of GIS files of project areas noted in VIII B. as ancillary attachments to the proposal to facilitate review. These files will not count toward the 6-page proposal limit. The GIS files may arrive no later than March 5, 2021.

IX. Review Process and Evaluation Criteria

Proposals will be evaluated by the Coast Survey Hydrographic Surveying Matching Fund Program Management Team. Submissions will be ranked based on the following criteria=:

A. Project justification (30 points)—This criterion ascertains whether there is intrinsic IOCM value in the proposed work and/or relevance to NOAA missions and priorities, including downstream partner proposals and uses. Use of, and reference to, NOMEC, ACMS and the Coast Survey Ocean Mapping Plan (all available at https://iocm.noaa.gov/about/strategic-plans.html); gap assessment tools such as the U.S. Bathymetric Gap Analysis (https://iocm.noaa.gov/seabed-2030-bathymetry.html); and the U.S. Interagency Elevation Inventory (https://catalog.data.gov/dataset/united-states-interagency-elevation-inventory-usiei), among others, are recommended. Coast Survey's Hydrographic Health Model showing priority survey areas for navigation safety is available upon request. The U.S. Federal Mapping Coordination site shows current Coast Survey mapping plans (fedmap.seasketch.org); email iwgocm.staff@noaa.gov for assistance with the layers on this site if needed.

B. Statement of need (10 points)—This criterion assesses clarity of project need, partner proposal alternatives if not selected, anticipated outcomes and public benefit.

C. Specified partner match (20 points)—The proposal identifies a point of contact for the entity submitting the proposal, as well as any partnering entities, a clear statement on partner matching funds provenance (e.g., state appropriations, NGO funds, or other sources), and timing of funds availability. In-kind contributions are welcome to strengthen the proposal, but do not count toward the funding match.

D. Project costs (15 points)—This criterion evaluates whether the proposed budget is realistic and commensurate with the proposed project needs and timeframe. If needed, please contact iwgocm.staff@noaa.gov for a rough estimate of cost per square nautical mile for surveys in a particular region; this figure will not be exact, as actual cost will be negotiated by region and scale of project.

E. Project feasibility and flexibility (25 points)—This criterion assesses the likelihood that the proposal would succeed based on survey conditions at the proposed time of year, such as project size, location, weather, NOAA analysis of environmental compliance implications, project flexibility and adaptability to existing Coast Survey plans and schedules, and other factors.

During the proposal review period, Coast Survey reserves the right to engage with proposal points of contact to ask questions and provide feedback on project costs and feasibility.

X. Management and Oversight

Once selections are made, Coast Survey will coordinate the development of the memoranda of agreement, funding transfers, project planning, environmental compliance, acquisition awards and quality assurance process. Coast Survey may bring in additional partners and/or funding (federal and/or non-Federal) to expand a project further if feasible and agreed to by all partners. Projects will be reviewed by Coast Survey on an annual basis to ensure they are responsive to partner interests and NOAA mission requirements, and to identify opportunities for outreach and education on the societal benefits of the work.

Authority: Coast and Geodetic Survey Act of 1947 (33 U.S.C. 883 et seq.)

Shepard M. Smith,
Rear Admiral, Director, Office of Coast Survey, National Ocean Service, National Oceanic and Atmospheric Administration.

[FR Doc. 2021-00385 Filed 1-11-21; 8:45 am]

BILLING CODE 3510-JE-P